DEPARTMENT OF HOUSING AND URBAN DEVELOPMENT

[Docket No. FR-5282-N-01]

Notice of Proposed Information Collection for Public Comment: Annual Performance Report and Annual Homeless Assessment Report

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: September 21, 2009.

ADDRESSES: Interested persons are invited to submit comments regarding this proposal. Comments should refer to the proposal by name or OMB Control number and should be sent to: Lillian L. Deitzer, Departmental Reports Management Officer, QDAM, Department of Housing and Urban Development, 451 7th Street, SW., Room 4178, Washington, DC 20410-5000; telephone (202) 402-8048 (this is not a toll-free number) or email Ms. Deitzer at Lillian.L.Deitzer@hud.gov for a copy of the proposed forms, or other available information.

FOR FURTHER INFORMATION CONTACT: Ann Marie Oliva, Director, Office of Special Needs Assistance Programs, CPD, Department of Housing and Urban Development, 451 7th Street, SW., Room 7262, Washington, DC 20410; telephone (202) 402-4497 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Annual Performance Report and Annual Homeless Assessment Report.

Description of the need for the information and proposed use: This information will enable HUD to assess the performance of individual projects and to determine project compliance with funding requirements. This information assists HUD in understanding homeless clients and service needs at the local level. HUD also uses this information to provide information on overall program performance and outcomes to HUD staff, other federal agencies, the Congress, and the Office of Management and Budget.

Agency form number: HUD-40118.

Members of affected public: Grant recipients for the Supportive Housing Program (SHP), Shelter Plus Care (S+C) Program, and the Section 8 Moderate Rehabilitation for the Single Room Occupancy Dwellings (SRO) Program.

Estimation of the total number of hours needed to prepare the information collection including number of respondents, frequency of response, and hours of response: APR (6,500 responses × 1,650 minutes = 182,000 hours per annum) + AHAR with Automated Software Report (425 responses × 48 minutes = 20,400 hours per annum) + AHAR with Manual Software Report (63 responses × 88 minutes = 5,544 hours per annum) = 207,944 hours per annum.

Status of the proposed information collection: Revision of currently approved package 2506-0145.

Authority: Section 3506 of the Paperwork Reduction Act of 1995, 44 U.S.C. Chapter 35, as amended.

Dated: July 13, 2009.
Nelson R. Bregón,
General Deputy Assistant Secretary for Community Planning and Development.

[FR Doc. E9-17328 Filed 7-21-09; 8:45 am]

BILLING CODE 4210-67-P